DEPARTMENT OF ENERGY

Federal Energy Regulatory Commission

18 CFR Part 284

[RM96-1-026]

Standards for Business Practices of Interstate Natural Gas Pipelines

AGENCY: Federal Energy Regulatory Commission.

ACTION: Final rule; correction.

SUMMARY: The Federal Energy Regulatory Commission published in the Federal Register of May 17, 2005, a document concerning regulations governing standards for conducting business practices with interstate natural gas pipelines. This final rule was incorrectly designated “Order No. 654”. This correction document changes that to read “Order No. 587-S”.

DATES: Effective on June 28, 2005.

FOR FURTHER INFORMATION CONTACT: Jamie Chabinsky, 202-502-6040.

SUPPLEMENTARY INFORMATION: The Federal Energy Regulatory Commission published a document in the Federal Register of May 17, 2005 (70 FR 28204). This correction changes the order number of the final rule.

In rule FR Doc. 05-9803 published on May 17, 2005 (70 FR 28204), make the following correction. On page 28205, in the first column, change “Order No. 654” to “Order No. 587-S”.

Dated: June 22, 2005.
Magalie R. Salas,
Secretary.

[FR Doc. 05-12715 Filed 6-27-05; 8:45 am]

BILLING CODE 6717-01-P